SMALL BUSINESS ADMINISTRATION

[Declaration of Disaster #3497]

State of Missouri; (Amendment #1)

In accordance with a notice received from the Department of Homeland Security—Federal Emergency Management Agency, effective May 9, 2003, the above numbered declaration is hereby amended to include Bollinger, Cape Girardeau, Franklin, Jefferson, Perry, Saint Francois, Sainte Genevieve, Saint Louis, Scott, Stoddard and Washington Counties in the State of Missouri as disaster areas due to damages caused by severe storms, tornadoes and flooding occurring on May 4, 2003 and continuing.

In addition, applications for economic injury loans from small businesses located in the contiguous counties of Butler, Crawford, Dunklin, Gasconade, Independent City of St. Louis, Iron, Madison, Mississippi, New Madrid, St. Charles, Warren and Wayne in the State of Missouri; and Alexander, Jackson, Madison, Monroe, Randolph, St. Clair and Union Counties in the State of Illinois may be filed until the specified date at the previously designated location. All other counties contiguous to the above named primary county have been previously declared.

The economic injury number assigned to Illinois is 9V2800.

All other information remains the same, i.e., the deadline for filing applications for physical damage is July 7, 2003, and for economic injury the deadline is February 6, 2004.

(Catalog of Federal Domestic Assistance Program Nos. 59002 and 59008).
Dated: May 13, 2003.
Herbert L. Mitchell,
Associate Administrator for Disaster Assistance.

[FR Doc. 03-12470 Filed 5-16-03; 8:45 am]

BILLING CODE 8025-01-P